NUCLEAR REGULATORY COMMISSION

[Docket No. 50-389]

Florida Power and Light Company, et al. St. Lucie Plant, Unit No. 2; Environmental Assessment and Finding of No Significant Impact

The U.S. Nuclear Regulatory Commission (NRC) is considering issuance of an exemption from 10 CFR 50.55a(f)(ii) and 50.55a(f)(5)(i) for Facility Operating License No. NPF-16, issued to Florida Power and Light Company, et al. (the licensee), for operation of the St. Lucie Unit 2, located in St. Lucie County, Florida.

Environmental Assessment

Identification of the Proposed Action

The proposed action would revise the second and third 120-month Inservice Test (IST) intervals for St. Lucie Unit 2. Currently, St. Lucie Unit 2 is in its second IST interval, with an end date of August 7, 2003. The proposed action would shorten the second IST interval for St. Lucie Unit 2 by retroactively changing the end date to February 10, 1998, to coincide with the end date of the second IST interval for St. Lucie Unit 1. Thus, the third IST interval for both units would begin on February 11, 1998, and end on February 10, 2008.

The proposed action is in accordance with the licensee's application for exemption dated November 27, 2000.

The Need for the Proposed Action

The IST intervals for St. Lucie Units 1 and 2 are currently offset by approximately 5 years, primarily due to the initial licensing dates of the units. This requires maintaining distinct but similar programs, with the administrative burden of updating them approximately every 5 years. The proposed action provides a one-time schedule exemption, which would allow the licensee to implement a combined IST program consistent between units, requiring compliance with the same edition of the American Society of Mechanical Engineers Code and addenda, and allow both units to be tested using the same test requirements.

Environmental Impacts of the Proposed Action

The NRC has completed its evaluation of the proposed action and concludes that there are no significant environmental impacts associated with the proposed action.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resources than those previously considered in the Final Environmental Statement for St. Lucie Unit 2 (NUREG-0842).

Agencies and Persons Consulted

In accordance with its stated policy, on May 17, 2001, the staff consulted with the Florida State official, William Passetti, of the Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 27, 2000. Documents may be examined, and/or copied for a fee, at the NRC's Public Document Room, located at One White Flint North, 11555 Rockville Pike (first floor), Rockville, Maryland. Publicly available records will be accessible electronically from the ADAMS Public Library component on the NRC Web site, http://www.nrc.gov (the Public Electronic Reading Room).

Dated at Rockville, Maryland, this 30th day of May 2001.
For the Nuclear Regulatory Commission.
Brendan T. Moroney,
Project Manager, Section 2, Project Directorate II Division of Licensing Project Management Office of Nuclear Reactor Regulation

[FR Doc. 01-14093 Filed 6-4-01; 8:45 am]

BILLING CODE 7590-01-P